DEPARTMENT OF THE INTERIOR

National Park Service

[NPS-WASO-NAGPRA-NPS0040250; PPWOCRADN0-PCU00RP14.R50000]

Notice of Inventory Completion: U.S. Army Corps of Engineers, Omaha District, Omaha, NE, and University of North Dakota, Grand Forks, ND

AGENCY: National Park Service, Interior.

ACTION: Notice.

SUMMARY: In accordance with the Native American Graves Protection and Repatriation Act (NAGPRA), the U.S. Army Corps of Engineers, Omaha District and University of North Dakota, Grand Forks, ND have completed an inventory of human remains and associated funerary objects and has determined that there is a cultural affiliation between the human remains and associated funerary objects and Indian Tribes or Native Hawaiian organizations in this notice.

DATES: Repatriation of the human remains and associated funerary objects in this notice may occur on or after July 7, 2025.

ADDRESSES: Send written requests for repatriation of the human remains and associated funerary objects in this notice to Ms. Livia Taylor, U.S. Army Corps of Engineers, Omaha District, ATTN: CENWO-PMA-D, 1616 Capitol Avenue, Omaha, NE 68102, email livia.a.taylor@usace.army.mil and Dr. Crystal Alberts, University of North Dakota, 276 Centennial Drive Stop 7209, Grand Forks, ND 58202, email crystal.alberts@und.edu.

SUPPLEMENTARY INFORMATION: This notice is published as part of the National Park Service's administrative responsibilities under NAGPRA. The determinations in this notice are the sole responsibility of the Omaha District and University of North Dakota, and additional information on the determinations in this notice, including the results of consultation, can be found in its inventory or related records. The National Park Service is not responsible for the determinations in this notice.

Abstract of Information Available

Human remains representing, at minimum, one individual, along with 130 associated funerary objects, were removed from a site in Sioux County, North Dakota; two associated funerary objects were removed from sites in Morton County, North Dakota; 192 associated funerary objects were removed from a site in Sioux County, North Dakota; three associated funerary objects were removed from a site in Corson County, South Dakota; 675 associated funerary objects were removed from a site in Hughes County, South Dakota; and 1,645 associated funerary objects were removed from a site in Walworth County, South Dakota.

Based upon a preponderance of the evidence, including Tribal oral history, archeological and geographical information, the associated funerary objects described in this Notice are consistent with cultural affiliation of the Three Affiliated Tribes of the Fort Berthold Reservation, North Dakota.

Cultural Affiliation

Based on the information available and the results of consultation, cultural affiliation is clearly identified by the information available about the human remains and associated funerary objects described in this notice.

Determinations

The U.S. Army Corps of Engineers, Omaha District and University of North Dakota have determined that:

• The human remains described in this notice represent the physical remains of a minimum of one individual of Native American ancestry.

• The 2,647 objects described in this notice are reasonably believed to have been placed intentionally with or near individual human remains at the time of death or later as part of the death rite or ceremony.

• There is a connection between the human remains and associated funerary objects described in this notice and the Three Affiliated Tribes of the Fort Berthold Reservation, North Dakota.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after July 7, 2025. If competing requests for repatriation are received, the U.S. Army Corps of Engineers, Omaha District must determine the most appropriate requestor prior to repatriation. Requests for joint repatriation of the human remains and associated funerary objects are considered a single request and not competing requests. The U.S. Army Corps of Engineers, Omaha District is responsible for sending a copy of this notice to the Indian Tribes and Native Hawaiian organizations identified in this notice.

Authority: Native American Graves Protection and Repatriation Act, 25 U.S.C. 3003, and the implementing regulations, 43 CFR 10.10.

Dated: May 21, 2025.
Melanie O'Brien,
Manager, National NAGPRA Program.

[FR Doc. 2025-10127 Filed 6-3-25; 8:45 am]

BILLING CODE 4312-52-P